SMALL BUSINESS ADMINISTRATION

[Disaster Declaration # 17729 and # 17730; FLORIDA Disaster Number FL-00181]

Presidential Declaration of a Major Disaster for the State of Florida

AGENCY: Small Business Administration.

ACTION: Notice.

SUMMARY: This is a Notice of the Presidential declaration of a major disaster for the State of Florida (FEMA-4680-DR), dated 12/13/2022.

Incident: Hurricane Nicole.

Incident Period: 11/07/2022 through 11/30/2022.

DATES: Issued on 12/13/2022.

Physical Loan Application Deadline Date: 02/13/2023.

Economic Injury (EIDL) Loan Application Deadline Date: 09/13/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 12/13/2022, applications for disaster loans may be filed at the address listed above or other locally announced locations.

The following areas have been determined to be adversely affected by the disaster:

Primary Counties (Physical Damage and Economic Injury Loans): Brevard, Flagler, Lake, Putnam, Saint Johns, Volusia

Contiguous Counties (Economic Injury Loans Only):

Florida: Alachua, Bradford, Clay, Duval, Indian River, Marion, Orange, Osceola, Polk, Seminole, Sumter.

The Interest Rates are:

| Percent
For Physical Damage:
Homeowners with Credit Available Elsewhere | 4.625
Homeowners without Credit Available Elsewhere | 2.313
Businesses with Credit Available Elsewhere | 6.610
Businesses without Credit Available Elsewhere | 3.305
Non-Profit Organizations with Credit Available Elsewhere | 2.375
Non-Profit Organizations without Credit Available Elsewhere | 2.375
For Economic Injury:
Businesses & Small Agricultural Cooperatives without Credit Available Elsewhere | 3.305
Non-Profit Organizations without Credit Available Elsewhere | 2.375

The number assigned to this disaster for physical damage is 17729 8 and for economic injury is 17730 0.

(Catalog of Federal Domestic Assistance Number 59008)

Rafaela Monchek,
Acting Associate Administrator for Disaster Assistance.

[FR Doc. 2022-27478 Filed 12-16-22; 8:45 am]

BILLING CODE 8026-09-P